DEPARTMENT OF AGRICULTURE

Submission for OMB Review; Comment Request

February 9, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 16, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: USDA Trade Missions and Trade Show Program.

OMB Control Number: 0551-NEW.

Summary of Collection: The primary purpose of the USDA Trade Missions and Trade Shows is to evaluate the effectiveness and value added of USDA support to USDA-endorsed Trade Shows, USDA Agribusiness Trade Missions, and USDA Virtual Trade Events. Participants desiring to participate in the USDA Trade Missions and Trade Shows Program will submit an application to determine eligibility of the applicants to take part in the event. This program evaluation information will be reported as USDA Key Performance Indicator “Value of agricultural exports resulting from participation in USDA endorsed foreign agricultural trade shows and trade missions”. Authority for these programs falls under: (a) 7 U.S.C. 1761 “Foreign Market Development”, (b) 7 U.S.C. 5693 “Export Promotion—Foreign Agricultural Service—Functions of the Foreign Agricultural Service,” and; (c) 7 U.S.C. 1765b “Functions of the U.S. Agricultural Trade Offices”.

Need and Use of the Information: USDA Foreign Agricultural Service Staff will utilize the information in assessing the performance of USDA-endorsed Trade Shows, USDA Agribusiness Trade Missions or USDA Virtual Trade Events activities that utilize Market Access Program, Emerging Market Program and Country Strategy Statement Funds. The information will be used to measure the outcomes of the activities, participant satisfaction with the activities, and how activities can be improved.

Description of Respondents: Not-for-profit institutions; Business or other for-profit; Farms.

Number of Respondents: 2,300.

Frequency of Responses: Reporting: Annually.

Total Burden Hours: 444.

Ruth Brown,
Departmental Information Collection Clearance Officer.

[FR Doc. 2022-03083 Filed 2-11-22; 8:45 am]

BILLING CODE 3410-10-P